DEPARTMENT OF THE INTERIOR

National Park Service

Notice of Inventory Completion: U.S. Department of Agriculture, Forest Service, Cleveland National Forest, San Diego, CA

AGENCY: National Park Service, Interior.

ACTION: Notice.

Notice is here given in accordance with the Native American Graves Protection and Repatriation Act (NAGPRA), 25 U.S.C. 3003, of the completion of an inventory of human remains in the possession of the U.S. Department of Agriculture, Forest Service, Cleveland National Forest, San Diego, CA. The human remains were removed from Cleveland National Forest, Riverside County, CA.

This notice is published as part of the National Park Service's administrative responsibilities under NAGPRA, 25 U.S.C. 3003 (d)(3). The determinations within this notice are the sole responsibility of the museum, institution, or Federal agency that has control of the Native American human remains. The National Park Service is not responsible for the determinations within this notice.

A detailed assessment of the human remains was made by Cleveland National Forest professional staff in consultation with representatives of the Luiseno Council of Elders; Pauma Band of Luiseno Mission Indians of the Pauma & Yuima Reservation, California; Pechanga Band of Luiseno Mission Indians of the Pechanga Reservation, California; and the Native American Heritage Commission, Sacramento, CA.

In June 1990, human remains representing a minimum of one individual were removed from the Tenaja Knoll site, 05-02-52-82 (CA-RIV-3973), Cleveland National Forest, Riverside County, CA. No known individual was identified. No associated funerary objects are present.

Excavated material culture, such as a Cottonwood projectile point and a Tizon brownware pottery sherd, date the site to the time of European contact. The site has been tentatively linked with the ethnographically identified village of Palasakeuana. Ethnographic research has provisionally identified the cultural affiliation of Palasakeuana as Juaneno. Although no Juaneno groups are federally recognized, they are closely related to Luiseno tribes, with whom they share language, culture, and religion, and occupied adjacent traditional lands.

Officials of the Cleveland National Forest have determined that, pursuant to 25 U.S.C. 3001 (9-10), the human remains described above represent the physical remains of one individual of Native American ancestry. Officials of the Cleveland National Forest have also determined that, pursuant to 25 U.S.C. 3001 (2), there is a relationship of shared group identity that can be reasonably traced between the Native American human remains and the La Jolla Band of Luiseno Mission Indians of the La Jolla Reservation, California; Pala Band of Luiseno Mission Indians of the Pala Reservation, California; Pauma Band of Luiseno Mission Indians of the Pauma & Yuima Reservation, California; Pechanga Band of Luiseno Mission Indians of the Pechanga Reservation, California; and Rincon Band of Luiseno Mission Indians of the Rincon Reservation, California.

Representatives of any other Indian tribe that believes itself to be culturally affiliated with the human remains should contact Anne S. Fege, Forest Supervisor, Cleveland National Forest, 10845 Rancho Bernardo Road, Suite 200, San Diego, CA, 92127 telephone (858) 673-6180, before May 12, 2004. Repatriation of the human remains to the La Jolla Band of Luiseno Mission Indians of the La Jolla Reservation, California; Pala Band of Luiseno Mission Indians of the Pala Reservation, California; Pauma Band of Luiseno Mission Indians of the Pauma & Yuima Reservation, California; Pechanga Band of Luiseno Mission Indians of the Pechanga Reservation, California; and Rincon Band of Luiseno Mission Indians of the Rincon Reservation, California may proceed after that date if no additional claimants come forward.

The Cleveland National Forest is responsible for notifying the La Jolla Band of Luiseno Mission Indians of the La Jolla Reservation, California; Luiseno Council of Elders; Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; and the Native American Heritage Commission, Sacramento, CA, that this notice has been published.

Dated: March 1, 2004.
John Robbins,
Assistant Director, Cultural Resources.

[FR Doc. 04-8173 Filed 4-9-04; 8:45 am]

BILLING CODE 4310-50-S